DEPARTMENT OF AGRICULTURE

Animal and Plant Health Inspection Service

[Docket No. APHIS-2012-0064]

Notice of Availability of a Treatment Evaluation Document and an Environmental Assessment for Pesticide Use in the Imported Fire Ant Program

AGENCY: Animal and Plant Health Inspection Service, USDA.

ACTION: Notice of availability and request for comments.

SUMMARY: We are advising the public that we have determined that it is necessary to add and revise certain treatment schedules for the Imported Fire Ant Program in the Plant Protection and Quarantine Treatment Manual. Thus, we have prepared a treatment evaluation document that discusses the existing treatment schedules, describes the new treatment schedules, and explains why these changes are necessary. In addition, an environmental assessment has been prepared by the Animal and Plant Health Inspection Service relative to pesticide use in the new and revised treatments in the imported fire ant program. The environmental assessment documents our review and analysis of environmental impacts associated with proposed new pesticides and new uses for previously approved pesticides. We are making this treatment evaluation document and environmental assessment available to the public for review and comment.

DATES: We will consider all comments that we receive on or before May 6, 2013.

ADDRESSES: You may submit comments by either of the following methods:

• Federal eRulemaking Portal: Go to http://www.regulations.gov/#!documentDetail;D=APHIS-2012-0064-0001.

• Postal Mail/Commercial Delivery: Send your comment to Docket No. APHIS-2012-0064, Regulatory Analysis and Development, PPD, APHIS, Station 3A-03.8, 4700 River Road Unit 118, Riverdale, MD 20737-1238.

The treatment evaluation document, environmental assessment, and any comments we receive may be viewed at http://www.regulations.gov/#!docketDetail;D=APHIS-2012-0064 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Charles Brown, Director, Emergency Management, Emergency and Domestic Programs, PPQ, APHIS, 4700 River Road Unit 135, Riverdale, MD 20737-1236; (301) 851-2119.

SUPPLEMENTARY INFORMATION:

Background

The imported fire ant, Solenopsis invicta Buren and Solenopsis richteri Forel, is an aggressive, stinging insect that, in large numbers, can seriously injure or even kill livestock, pets, and humans. The imported fire ant feeds on crops and builds large, hard mounds that damage farm and field machinery. Imported fire ants are notorious hitchhikers and are readily transported long distances when articles such as soil and nursery stock are shipped outside the infested area.

The Animal and Plant Health Inspection Service (APHIS) works to prevent further imported fire ant spread by enforcing a Federal quarantine and cooperating with imported fire ant-infested States to mitigate the risks associated with the movement of regulated articles such as nursery stock and used soil-moving equipment.

The regulations in “Subpart—Imported Fire Ant” (7 CFR 301.81 through 301.81-11, referred to below as the regulations) are intended to prevent the imported fire ant from spreading throughout its ecological range within the country. The regulations quarantine infested States or infested areas within States and restricts interstate movement of regulated articles to prevent the artificial spread of the imported fire ant.

Sections 301.81-4 and 301.81-5 of the regulations provide, among other things, that regulated articles requiring treatment prior to interstate movement must be treated in accordance with 7 CFR part 305, which contains our phytosanitary treatment regulations.

In § 305.2, paragraph (b) states that approved treatment schedules are set out in the Plant Protection and Quarantine (PPQ) Treatment Manual.¹ Section 305.3 sets out a process for adding, revising, or removing treatment schedules in the PPQ Treatment Manual. In that section, paragraph (a) sets out the process for adding, revising, or removing treatment schedules when there is no immediate need to make a change. The circumstances in which an immediate need exists are described in § 305.3(b)(1).

¹ The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

In accordance with § 305.3(a)(1), we are providing notice that we have determined that it is necessary to revise the list of insecticides and use patterns, already approved for use within the existing program, for the imported fire ant program in the PPQ Treatment Manual. As pesticide registrations change under the Environmental Protection Agency's regulations, the chemicals available for use to control imported fire ants also change. Specifically, we are adding a new immersion treatment using bifenthrin for balled-and-burlapped nursery stock and a new broadcast treatment using bifenthrin for grass sod, and clarifying the application method for drench treatment of balled-and-burlapped nursery stock.

The reasons for these revisions are described in a treatment evaluation document (TED) we have prepared to support this action. The TED may be viewed on the Regulations.gov Web site or in our reading room. You may also request paper copies of the TED by calling or writing to the person listed under FOR FURTHER INFORMATION CONTACT.

APHIS' review and analysis of the potential environmental impacts associated with the addition of insecticides and use patterns to the list of chemicals allowed in the imported fire ant quarantine are documented in detail in an environmental assessment entitled “Pesticide Use in the Imported Fire Ant Program” (March 2012). We are making this environmental assessment available to the public for review and comment. We will consider all comments that we receive on or before the date listed under the heading DATES at the beginning of this notice.

The environmental assessment may be viewed on the Regulations.gov Web site or in our reading room (see ADDRESSES above for a link to Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 28th day of February 2013.
Kevin Shea,
Acting Administrator, Animal and Plant Health Inspection Service.

[FR Doc. 2013-05139 Filed 3-5-13; 8:45 am]

BILLING CODE 3410-34-P